FEDERAL HOUSING FINANCE AGENCY

12 CFR Parts 1206 and 1240

DEPARTMENT OF HOUSING AND URBAN DEVELOPMENT

Office of Federal Housing Enterprise Oversight

12 CFR Part 1750

RIN 2590-AA95

Enterprise Capital Requirements

AGENCY: Federal Housing Finance Agency; Office of Federal Housing Enterprise Oversight; Department of Housing and Urban Development.

ACTION: Notice of proposed rulemaking; extension of comment period.

SUMMARY: On July 17, 2018, the Federal Housing Finance Agency (FHFA) published in the Federal Register a notice of proposed rulemaking for public comment that proposes a new regulatory capital framework for the Federal National Mortgage Association (Fannie Mae) and the Federal Home Loan Mortgage Corporation (Freddie Mac). The comment period was set to expire on September 17, 2018. This notice extends the comment period by an additional 60 days to allow the public additional time to comment on the proposed rule.

DATES: The comment period for the proposed rule published at 83 FR 33312 (July 17, 2018) is extended. Written comments must be received on or before November 16, 2018.

ADDRESSES: You may submit your comments on the proposed rule, identified by regulatory information number (RIN) 2590-AA95, by any one of the following methods:

• Agency website: www.fhfa.gov/open-for-comment-or-input.

• Federal eRulemaking Portal: http://www.regulations.gov. Follow the instructions for submitting comments. If you submit your comment to the Federal eRulemaking Portal, please also send it by email to FHFA at RegComments@fhfa.gov to ensure timely receipt by FHFA. Include the following information in the subject line of your submission: Comments/RIN 2590-AA95.

• Hand Delivered/Courier: The hand delivery address is: Alfred M. Pollard, General Counsel, Attention: Comments/RIN 2590-AA95, Federal Housing Finance Agency, Eighth Floor, 400 Seventh Street SW, Washington, DC 20219. Deliver the package at the Seventh Street entrance Guard Desk, First Floor, on business days between 9 a.m. and 5 p.m.

• U.S. Mail, United Parcel Service, Federal Express, or Other Mail Service: The mailing address for comments is: Alfred M. Pollard, General Counsel, Attention: Comments/RIN 2590-AA95, Federal Housing Finance Agency, Eighth Floor, 400 Seventh Street SW, Washington, DC 20219. Please note that all mail sent to FHFA via U.S. Mail is routed through a national irradiation facility, a process that may delay delivery by approximately two weeks. For any time-sensitive correspondence, please plan accordingly.

FOR FURTHER INFORMATION CONTACT: Naa Awaa Tagoe, Senior Associate Director, Office of Financial Analysis, Modeling & Simulations, (202) 649-3140, NaaAwaa.Tagoe@fhfa.gov; Andrew Varrieur, Associate Director, Office of Financial Analysis, Modeling & Simulations, (202) 649-3141, Andrew.Varrieur@fhfa.gov; or Miriam Smolen, Associate General Counsel, Office of General Counsel, (202) 649-3182, Miriam.Smolen@fhfa.gov. These are not toll-free numbers. The mailing address is: Federal Housing Finance Agency, 400 Seventh Street SW, Washington, DC 20219. The telephone number for the Telecommunications Device for the Hearing Impaired is (800) 877-8339.

SUPPLEMENTARY INFORMATION:

Comments

FHFA invites comments on all aspects of the proposed rule and will take all comments into consideration before issuing a final rule. Copies of all comments will be posted without change, and will include any personal information you provide such as your name, address, email address, and telephone number, on the FHFA website at http://www.fhfa.gov. In addition, copies of all comments received will be available for examination by the public through the electronic rulemaking docket for this proposed rule also located on the FHFA website.

Background

On July 17, 2018, FHFA published in the Federal Register a proposed rule proposing a new regulatory capital framework for Fannie Mae and Freddie Mac which includes a new framework for risk-based capital requirements and two alternatives for an updated minimum leverage capital requirement. See 83 FR 33312. The comment period for the proposed rule was originally set to expire on September 17, 2018. FHFA is extending the comment period an additional 60 days, changing the deadline for submitting comments to November 16, 2018.

Dated: July 30, 2018.
Melvin L. Watt,
Director, Federal Housing Finance Agency.

[FR Doc. 2018-16654 Filed 8-2-18; 8:45 am]

BILLING CODE 8070-01-P